Proclamation 10637 of September 29, 2023

National Disability Employment Awareness Month, 2023

By the President of the United States of America

A Proclamation

People with disabilities have long strengthened our economy and expanded our Nation's possibilities. During National Disability Employment Awareness Month, we recognize the immense contributions of disabled Americans, and we recommit to delivering America's full promise of equal dignity, respect, and opportunity for every American.

I had the honor of helping to pass the Rehabilitation Act in my first year in the United States Senate. Then, in 1990, with the help of activists and bipartisan legislators and under the leadership of Senator Tom Harkin, we passed the Americans with Disabilities Act (ADA)—a groundbreaking civil rights law that banned discrimination against people with disabilities in most areas of public life, including in workplaces, schools, and public transit. I was proud to co-sponsor that law back then and to build on its lasting legacy in the Obama-Biden Administration, including by setting hiring goals for people with disabilities in Federal contracts.

While the Rehabilitation Act and the ADA made significant strides toward equal opportunity for people with disabilities, there is more work to do. People with disabilities are three times less likely to have a job, and when they do, they are often paid less money for doing the same work.

Since the start of the my Administration, we have been working hard to promote job opportunities for Americans with disabilities. I truly believe that a workforce that includes people with disabilities is one that is stronger and more effective. And as the Nation's largest employer, the Federal Government has a responsibility to set the standard for fair and decent practices in the workplace. That is why, in my first year in office, I issued an Executive Order to prioritize diversity, equity, inclusion, and accessibility in the Federal Government. That Executive Order directs agencies to identify and remove barriers to hiring and promotion for job applicants and employees with disabilities as well as maximize the accessibility of workplaces.

My Administration has also ended the use of unfair sub-minimum wages in Federal contracts, which previously allowed employers to pay workers with disabilities less than the minimum wage for federally contracted workers. Meanwhile, the Department of Labor is working around the clock to protect the rights of disabled workers on Federal contracts and to promote their competitive integrated employment alongside other similarly situated workers without disabilities. The Office of Disability Employment Policy launched several national online dialogues to solicit broad stakeholder input on the effectiveness of employment programs and services for people from underrepresented groups within the disability community. In addition, we are coordinating with our partners at all levels of government, in the private sector, and in civil society to use Federal funding to provide new employment opportunities to people with disabilities.

My Bipartisan Infrastructure Law is also funding projects that are lowering transportation barriers that prevent disabled Americans from finding employment. This once-in-a-generation investment in our Nation's infrastructure is making transit and public services more accessible. It includes $1.75 billion to repair and improve accessibility in transit stations across America and $65 billion to expand access to high-speed internet so more disabled Americans can work, study, and stay connected from home. In August, the Department of Justice issued a notice of proposed rulemaking under Title II of the ADA that aims to improve web and mobile applications access for people with disabilities and clarify how public entities—primarily State and local governments—can meet their existing ADA obligations as many of their activities shift online, further breaking down barriers to employment.

America is the only country in the world founded on an idea: that we are all created equal and deserve to be treated equally throughout our lives. This National Disability Employment Awareness Month, we celebrate all the people with disabilities who have moved our Nation closer to realizing that ideal and, in the process, have made America more prosperous, inclusive, and humane. As we celebrate the progress we have made, may we continue to open the doors of opportunity even wider for people with disabilities by advancing access and equity.

NOW, THEREFORE, I, JOSEPH R. BIDEN JR., President of the United States of America, by virtue of the authority vested in me by the Constitution and the laws of the United States, do hereby proclaim October 2023 as National Disability Employment Awareness Month. I urge all Americans to embrace the talents and skills of workers with disabilities and to promote the right to equal employment opportunity for all.

IN WITNESS WHEREOF, I have hereunto set my hand this twenty-ninth day of September, in the year of our Lord two thousand twenty-three, and of the Independence of the United States of America the two hundred and forty-eighth.

[FR Doc. 2023-22236

Filed 10-3-23; 8:45 am]

Billing code 3395-F4-P